DEPARTMENT OF ENERGY

Federal Energy Regulatory Commission

Combined Notice of Filings #1

October 26, 2012.

Take notice that the Commission received the following electric rate filings:

Docket Numbers: ER06-332-002.

Applicants: ISO New England Inc.

Description: ISO New England Inc. submits update to the list of authorized persons designated by the Massachusetts Department of Telecommunications and Energy that may receive Confidential Market Information.

Filed Date: 10/26/12.

Accession Number: 20121026-5108.

Comments Due: 5 p.m. e.t. 11/16/12.

Docket Numbers: ER10-2601-001; ER10-2605-003.

Applicants: Power Resources, Ltd., Yuma Cogeneration Associates.

Description: Supplement to Notification of Changes in Status of Power Resources, Ltd., et al.

Filed Date: 10/18/12.

Accession Number: 20121018-5154.

Comments Due: 5 p.m. e.t. 11/8/12.

Docket Numbers: ER10-2881-005; ER10-2882-005; ER10-2883-005; ER10-2884-005; ER10-2885-005; ER10-2641-005; ER10-2663-005; ER10-2886-005.

Applicants: Alabama Power Company, Southern Power Company, Mississippi Power Company, Georgia Power Company, Gulf Power Company, Oleander Power Project, Limited Partnership, Southern Company—Florida LLC, Southern Turner Cimarron I, LLC.

Description: Notice of Change in Status of Alabama Power Company, et al.

Filed Date: 10/26/12.

Accession Number: 20121026-5022.

Comments Due: 5 p.m. e.t. 11/16/12.

Docket Numbers: ER12-2694-001.

Applicants: Northern States Power Company, a Minnesota corporation, Northern States Power Company, a Wisconsin corporation.

Description: 20121026 Modification to be effective 12/26/2012.

Filed Date: 10/26/12.

Accession Number: 20121026-5081.

Comments Due: 5 p.m. e.t. 11/16/12.

Docket Numbers: ER12-2695-001.

Applicants: Public Service Company of Colorado.

Description: 2012_10_26 PSCo MBR Filing to be effective 12/26/2012.

Filed Date: 10/26/12.

Accession Number: 20121026-5120.

Comments Due: 5 p.m. e.t. 11/16/12.

Docket Numbers: ER12-2696-001.

Applicants: Southwestern Public Service Company.

Description: 10-26-12_SPS MBR Filing to be effective 12/26/2012.

Filed Date: 10/26/12.

Accession Number: 20121026-5123.

Comments Due: 5 p.m. e.t. 11/16/12.

Docket Numbers: ER13-37-001.

Applicants: Midwest Independent Transmission System Operator, Inc.

Description: Schedule 43 Amendment Filing to be effective 6/15/2012.

Filed Date: 10/25/12.

Accession Number: 20121025-5081.

Comments Due: 5 p.m. e.t. 11/15/12.

Docket Numbers: ER13-114-001.

Applicants: Wisconsin Public Service Corporation.

Description: Amendment to Notice of Cancellation to be effective 10/1/2012.

Filed Date: 10/26/12.

Accession Number: 20121026-5122.

Comments Due: 5 p.m. e.t. 11/16/12.

Docket Numbers: ER13-131-001.

Applicants: Great Bay Energy IV, LLC.

Description: Revised Application for MBR Authorization to be effective 10/16/2012.

Filed Date: 10/25/12.

Accession Number: 20121025-5150.

Comments Due: 5 p.m. e.t. 11/15/12.

Docket Numbers: ER13-167-002.

Applicants: Caerus Energy, LLC.

Description: Caerus Energy, LLC Market Based Rate Amendment 2 to be effective 10/26/2012.

Filed Date: 10/26/12.

Accession Number: 20121026-5071.

Comments Due: 5 p.m. e.t. 11/16/12.

Docket Numbers: ER13-197-000.

Applicants: Tucson Electric Power Company.

Description: RS No. 324 Balancing Agreement with Trico Electric to be effective 11/1/2012.

Filed Date: 10/25/12.

Accession Number: 20121025-5152.

Comments Due: 5 p.m. e.t. 11/15/12.

Docket Numbers: ER13-199-000.

Applicants: Mt. Poso Cogeneration Company, LLC.

Description: Update Seller Category Status to be effective 10/29/2012.

Filed Date: 10/26/12.

Accession Number: 20121026-5031.

Comments Due: 5 p.m. e.t. 11/16/12.

Docket Numbers: ER13-200-000.

Applicants: Woodland Biomass Power Ltd.

Description: Update Seller Category Status to be effective 10/29/2012.

Filed Date: 10/26/12.

Accession Number: 20121026-5036.

Comments Due: 5 p.m. e.t. 11/16/12.

Docket Numbers: ER13-201-000.

Applicants: ANP Funding I, LLC.

Description: Notice of Cancellation to be effective 10/31/2012.

Filed Date: 10/26/12.

Accession Number: 20121026-5052.

Comments Due: 5 p.m. e.t. 11/16/12.

Docket Numbers: ER13-202-000.

Applicants: IPA Trading, LLC.

Description: Notice of Cancellation to be effective 10/31/2012.

Filed Date: 10/26/12.

Accession Number: 20121026-5055.

Comments Due: 5 p.m. e.t. 11/16/12.

Docket Numbers: ER13-203-000.

Applicants: Black Bear SO, LLC.

Description: Black Bear SO, LLC MBR Tariff to be effective 11/26/2012.

Filed Date: 10/26/12.

Accession Number: 20121026-5069.

Comments Due: 5 p.m. e.t. 11/16/12.

Docket Numbers: ER13-204-000.

Applicants: DTE Stoneman, LLC.

Description: Update Seller Category Status to be effective 10/29/2012.

Filed Date: 10/26/12.

Accession Number: 20121026-5077.

Comments Due: 5 p.m. e.t. 11/16/12.

Docket Numbers: ER13-205-000.

Applicants: DTE Pontiac North, LLC.

Description: Update Seller Category Status to be effective 10/29/2012.

Filed Date: 10/26/12.

Accession Number: 20121026-5080.

Comments Due: 5 p.m. e.t. 11/16/12.

Docket Numbers: ER13-206-000.

Applicants: PacifiCorp.

Description: PacifiCorp submits Notice of Termination of a Facilities Agreement [Rate Schedule No. 605] with Brigham City Light & Power.

Filed Date: 10/26/12.

Accession Number: 20121026-5109.

Comments Due: 5 p.m. e.t. 11/16/12.

Docket Numbers: ER13-207-000.

Applicants: City of Colton, California.

Description: TO Tariff—Baseline Initial TRR & TO Tariff to be effective 1/1/2013.

Filed Date: 10/26/12.

Accession Number: 20121026-5111.

Comments Due: 5 p.m. e.t. 11/16/12.

Docket Numbers: ER13-208-000.

Applicants: DTE Energy Supply, Inc.

Description: Update Seller Category Status to be effective 10/29/2012.

Filed Date: 10/26/12.

Accession Number: 20121026-5114.

Comments Due: 5 p.m. e.t. 11/16/12.

Docket Numbers: ER13-209-000.

Applicants: DTE River Rouge No.1, LLC.

Description: Update Seller Category Status to be effective 10/29/2012.

Filed Date: 10/26/12.

Accession Number: 20121026-5115.

Comments Due: 5 p.m. e.t. 11/16/12.

Docket Numbers: ER13-210-000.

Applicants: DTE East China, LLC.

Description: Update Seller Category Status to be effective 10/29/2012.

Filed Date: 10/26/12.

Accession Number: 20121026-5117.

Comments Due: 5 p.m. e.t. 11/16/12.

Docket Numbers: ER13-211-000.

Applicants: Haverhill North Coke Company.

Description: Haverhill Notice of Succession to be effective 10/27/2012.

Filed Date: 10/26/12.

Accession Number: 20121026-5118.

Comments Due: 5 p.m. e.t. 11/16/12.

Docket Numbers: ER13-212-000.

Applicants: DTE Calvert City, LLC.

Description: Update Seller Category Status to be effective 10/29/2012.

Filed Date: 10/26/12.

Accession Number: 20121026-5121.

Comments Due: 5 p.m. e.t. 11/16/12.

Docket Numbers: ER13-213-000.

Applicants: Mehoopany Wind Energy LLC.

Description: MBR Application of Mehoopany Wind Energy LLC to be effective 9/1/2012.

Filed Date: 10/26/12.

Accession Number: 20121026-5131.

Comments Due: 5 p.m. e.t. 11/16/12.

Docket Numbers: ER13-214-000.

Applicants: Middletown Cogeneration Company LLC.

Description: Middletown Market-Based Rate Application to be effective 12/1/2012.

Filed Date: 10/26/12.

Accession Number: 20121026-5163.

Comments Due: 5 p.m. e.t. 11/16/12.

Docket Numbers: ER13-215-000.

Applicants: Haverhill Cogeneration Company LLC.

Description: Haverhill Cogen MBR Application to be effective 12/1/2012.

Filed Date: 10/26/12.

Accession Number: 20121026-5164.

Comments Due: 5 p.m. e.t. 11/16/12.

Docket Numbers: ER13-216-000.

Applicants: South Carolina Electric & Gas Company.

Description: Cancellation of Service Agreement 93 to be effective 10/26/2012.

Filed Date: 10/26/12.

Accession Number: 20121026-5165.

Comments Due: 5 p.m. e.t. 11/16/12.

Docket Numbers: ER13-217-000.

Applicants: Beacom Energy, Inc.

Description: Baseline new to be effective 11/26/2012.

Filed Date: 10/26/12.

Accession Number: 20121026-5169.

Comments Due: 5 p.m. e.t. 11/16/12.

Take notice that the Commission received the following electric securities filings:

Docket Numbers: ES13-3-000.

Applicants: MDU Resources Group, Inc.

Description: Application of MDU Resources Group, Inc. under Section 204 of the Federal Power Act for Authorization to Issue up to $150,000,000 of Promissory Notes and Commercial Paper.

Filed Date: 10/26/12.

Accession Number: 20121026-5054.

Comments Due: 5 p.m. e.t. 11/16/12.

Take notice that the Commission received the following land acquisition reports:

Docket Numbers: LA12-3-000.

Applicants: East Coast Power Linden Holding, L.L.C., Cogen Technologies Linden Venture, L.P., Fox Energy Company LLC, Birchwood Power Partners, L.P., Shady Hills Power Company, L.L.C., EFS Parlin Holdings, LLC, and Inland Empire Energy Center, LLC.

Description: Quarterly Land Acquisition Report of the GE Companies.

Filed Date: 10/26/12.

Accession Number: 20121026-5053.

Comments Due: 5 p.m. e.t. 11/16/12.

Take notice that the Commission received the following qualifying facility filings:

Docket Numbers: QF13-51-000.

Applicants: Buckeye Florida, Limited Partnership.

Description: Form 556 of Buckeye Florida, Limited Partnership.

Filed Date: 10/24/12.

Accession Number: 20121024-5094.

Comments Due: None Applicable.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2012.
Nathaniel J. Davis, Sr.,
Deputy Secretary.

[FR Doc. 2012-26923 Filed 11-2-12; 8:45 am]

BILLING CODE 6717-01-P